DEPARTMENT OF COMMERCE

International Trade Administration

[A-570-891]

Hand Trucks and Parts Thereof from the People's Republic of China: Final Results of Antidumping Duty Administrative Review

AGENCY: Import Administration, International Trade Administration, Department of Commerce.

SUMMARY: On January 11, 2010, the Department of Commerce (the Department) published in the Federal Register the preliminary results of administrative review of the antidumping duty order on hand trucks and certain parts thereof from the People's Republic of China (PRC). The review covers one exporter. The period of review (POR) is December 1, 2007 through November 30, 2008. We gave interested parties an opportunity to comment on the preliminary results. Based on our analysis of the comments received, we have made changes to the margin calculations. Therefore, the final results differ from the preliminary results. The final weighted-average dumping margin for the reviewed firm is listed below in the section entitled “Final Results of Review.”

EFFECTIVE DATE: May 25, 2010.

FOR FURTHER INFORMATION CONTACT: Fred Baker or Robert James, AD/CVD Operations, Office 7, Import Administration, International Trade Administration, U.S. Department of Commerce, 14th Street and Constitution Avenue, NW, Washington, DC 20230; telephone (202) 482-2924 or (202) 482-0649, respectively.

SUPPLEMENTARY INFORMATION: On January 11, 2010, the Department of Commerce (the Department) published in the Federal Register the preliminary results of administrative review of the antidumping duty order on hand trucks and certain parts thereof from the People's Republic of China (PRC). See Hand Trucks and Certain Parts Thereof from the People's Republic of China: Preliminary Results of Antidumping Duty Administrative Review and Rescission in Part, 75 FR 1339 (January 11, 2010) (Preliminary Results). The administrative review covers Since Hardware (Guangzhou) Co., Ltd. (Since Hardware).¹ We invited interested parties to comment on the preliminary results. On February 12, 2010 we received a case brief from petitioners. We received no case or rebuttal briefs from Since Hardware. No interested party requested a hearing.

¹ This review originally covered four exporters. See Initiation of Antidumping and Countervailing Duty Administrative Reviews and Requests for Revocation in Part, 74 FR 5821 (February 2, 2009). However the Department rescinded the review on two of those exporters on June 19, 2009. See Notice of Partial Rescission, Intent to Rescind and Extension of Preliminary Results of Antidumping Duty Administrative Review: Hand Trucks and Certain Parts Thereof From the People's Republic of China, 74 FR 29178 (June 19, 2009). It rescinded the review on another of the four exporters on January 11, 2010. See Hand Trucks and Certain Parts Thereof from the People's Republic of China: Preliminary Results of Antidumping Duty Administrative Review and Rescission in Part, 75 FR 1339 (January 11, 2010).

Scope of the Order

The merchandise subject to this antidumping duty order consists of hand trucks manufactured from any material, whether assembled or unassembled, complete or incomplete, suitable for any use, and certain parts thereof, namely the vertical frame, the handling area and the projecting edges or toe plate, and any combination thereof.

A complete or fully assembled hand truck is a hand-propelled barrow consisting of a vertically disposed frame having a handle or more than one handle at or near the upper section of the vertical frame; at least two wheels at or near the lower section of the vertical frame; and a horizontal projecting edge or edges, or toe plate, perpendicular or angled to the vertical frame, at or near the lower section of the vertical frame. The projecting edge or edges, or toe plate, slides under a load for purposes of lifting and/or moving the load.

That the vertical frame can be converted from a vertical setting to a horizontal setting, then operated in that horizontal setting as a platform, is not a basis for exclusion of the hand truck from the scope of this petition. That the vertical frame, handling area, wheels, projecting edges or other parts of the hand truck can be collapsed or folded is not a basis for exclusion of the hand truck from the scope of the petition. That other wheels may be connected to the vertical frame, handling area, projecting edges, or other parts of the hand truck, in addition to the two or more wheels located at or near the lower section of the vertical frame, is not a basis for exclusion of the hand truck from the scope of the petition. Finally, that the hand truck may exhibit physical characteristics in addition to the vertical frame, the handling area, the projecting edges or toe plate, and the two wheels at or near the lower section of the vertical frame, is not a basis for exclusion of the hand truck from the scope of the petition.

Examples of names commonly used to reference hand trucks are hand truck, convertible hand truck, appliance hand truck, cylinder hand truck, bag truck, dolly, or hand trolley. They are typically imported under heading 8716.80.50.10 of the Harmonized Tariff Schedule of the United States (HTSUS), although they may also be imported under heading 8716.80.50.90. Specific parts of a hand truck, namely the vertical frame, the handling area and the projecting edges or toe plate, or any combination thereof, are typically imported under heading 8716.90.50.60 of the HTSUS. Although the HTSUS subheadings are provided for convenience and customs purposes, the Department's written description of the scope is dispositive.

Excluded from the scope are small two-wheel or four-wheel utility carts specifically designed for carrying loads like personal bags or luggage in which the frame is made from telescoping tubular materials measuring less than 5/8 inch in diameter; hand trucks that use motorized operations either to move the hand truck from one location to the next or to assist in the lifting of items placed on the hand truck; vertical carriers designed specifically to transport golf bags; and wheels and tires used in the manufacture of hand trucks.

Separate Rates

In proceedings involving non-market economy (NME) countries, the Department begins with a rebuttable presumption that all companies within the country are subject to government control and, thus, should be assigned a single antidumping duty deposit rate. It is the Department's policy to assign all exporters of merchandise subject to review in an NME country this single rate unless an exporter can demonstrate that it is sufficiently independent so as to be entitled to a separate rate.

In the preliminary results, we found that Since Hardware demonstrated its eligibility for separate rate status. We received no comments from interested parties regarding Since Hardware's separate rate status. In these final results of review, we continue to find the evidence placed on the record by Since Hardware demonstrates an absence of government control, both in law and in fact, with respect to Since Hardware's exports of the merchandise under review. Thus, we have determined that Since Hardware is eligible to receive a separate rate.

Changes Since the Preliminary Results

Based on our analysis of comments received, we have made the following changes in our margin calculations:

• We included defective hand trucks as part of the total production volume. See comment 2 of the decision memorandum.

oWe valued the “rubber wheel” input using Indian import statistics from harmonized tariff schedule (HTS) 8716.90.90. See comment 3 of the decision memorandum.

• We used the financial statement of Rexello Castors Private Limited in combination with that of Godrej & Boyce Manufacturing Co., Ltd., to calculate ratios for selling, general and administrative expenses, overhead, and profit. See comment 4 of the decision memorandum.

• We valued the “zinc-galvanized cold-rolled plate” input using HTS 7216.91.61, rather than HTS 7216.91.00. See comment 5 of the decision memorandum.

Final Results of Review

The Department has determined that the following margin exists for the period December 1, 2007, through November 30, 2008:

Exporter/Manufacturer | Weighted-Average Margin (Percentage)
Since Hardware (Guangzhou) Co. Ltd. | 119.98

Assessment Rates

The Department intends to issue assessment instructions to U.S. Customs and Border Protection (CBP) fifteen days after publication of these final results of administrative review. In calculating importer-specific assessment rates, we divided the total dumping margins (calculated as the difference between normal value and export price) for each of Since Hardware's importers or customers by the total number of units the exporter sold to that importer or customer. We will direct CBP to assess the resulting per-unit dollar amount against each unit of merchandise in each of that importer's/customer's entries during the POR.

Cash Deposit Requirements

The following cash deposit requirements will be effective upon publication of these final results of administrative review for all shipments of subject merchandise entered, or withdrawn from warehouse, for consumption on or after the publication date, as provided by section 751(a)(2)(C) of the Tariff Act of 1930, as amended (the Act): (1) for Since Hardware the cash deposit rate will be 119.98 percent; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 383.60 percent; and (4) for all non-PRC exporters of subject merchandise which have not received their own rate, the cash deposit rate will be the rate applicable to the PRC exporter that supplied that non-PRC exporter. These cash deposit requirements will remain in effect until further notice.

Reimbursement of Duties

This notice also serves as a final reminder to importers of their responsibility under 19 CFR 351.402(f) to file a certificate regarding the reimbursement of antidumping duties prior to liquidation of the relevant entries during this POR. Failure to comply with this requirement could result in the Secretary's presumption that reimbursement of antidumping duties occurred and the subsequent assessment of doubled antidumping duties.

Administrative Protective Orders

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This administrative review and notice are in accordance with sections 751(a)(1) and 777(i) of the Act and 19 CFR 351.213.

Dated: May 18, 2010.
John M. Andersen,
Acting Deputy Assistant Secretary for Antidumping and Countervailing Duty Operations.

Appendix

Comment 1. Bank fees incurred on U.S. sales.

Comment 2. Whether to include defective hand trucks as part of production volume.

Comment 3. How to value the input “rubber wheel.”

Comment 4. What financial statement to use for calculating financial ratios.

Comment 5. How to value the input “zinc galvanized cold-rolled plate.”

Comment 6. Whether to use Indian import statistics denominated in U.S. dollars.

Comment 7. Whether to adjust the surrogate value for domestic inland freight to account for shipment volumes.

[FR Doc. 2010-12565 Filed 5-24-10; 8:45 am]

BILLING CODE 3510-DS-S